FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation, Intermediary Applicant:

Cargo Control Express, Inc. dba Ramses Logistics Co., 2782 Engel Drive, Los Alamitos, CA 90702. Officer: Christine Kim, President, (Qualifying Individual).

Non-Vessel Operating Common Carrier and Ocean Freight Forwarder Transportation Intermediary Applicants:

Coltrans (USA), Inc., 10925 N.W. 27th Street, Suite 201, Miami, FL 33172. Officers: Consuelo Suarez, Vice President-Sea/Air Operations, (Qualifying Individual), Jochen Raute, President.

Logenix International LLC, 13800 Coppermine Road, Suite 255, Herndon, VA 20171. Officer: Ron Cruise, President/CEO, (Qualifying Individual), James Halstead, Vice President.

Dated: October 26, 2001.
Bryant L. VanBrakle,
Secretary.

[FR Doc. 01-27398 Filed 10-30-01; 8:45 am]

BILLING CODE 6730-01-P